DEPARTMENT OF THE INTERIOR

Fish and Wildlife Service

[FWS-R8-ES-2018-N144; FXES11130800000-178-FF08E00000]

Endangered and Threatened Species; Receipt of Recovery Permit Applications

AGENCY: Fish and Wildlife Service, Interior.

ACTION: Notice of receipt of permit applications; request for comments.

SUMMARY: We, the U.S. Fish and Wildlife Service, have received applications for permits to conduct activities intended to enhance the propagation or survival of endangered or threatened species under the Endangered Species Act. We invite the public and local, State, Tribal, and Federal agencies to comment on these applications. Before issuing any of the requested permits, we will take into consideration any information that we receive during the public comment period.

DATES: We must receive your written comments on or before March 15, 2019.

ADDRESSES: Document availability and comment submission: Submit requests for copies of the applications and related documents and submit any comments by one of the following methods. All requests and comments should specify the applicant name(s) and application number(s) (e.g., TEXXXXXX).

• Email: permitsr8es@fws.gov.

• U.S. Mail: Daniel Marquez, Endangered Species Program Manager, U.S. Fish and Wildlife Service, Region 8, 2800 Cottage Way, Room W-2606, Sacramento, CA 95825.

FOR FURTHER INFORMATION CONTACT: Daniel Marquez, via phone at 760-431-9440, via email at permitsr8es@fws.gov, or via the Federal Relay Service at 1-800-877-8339 for TTY assistance.

SUPPLEMENTARY INFORMATION: We, the U.S. Fish and Wildlife Service, invite the public to comment on applications for permits under section 10(a)(1)(A) of the Endangered Species Act, as amended (ESA; 16 U.S.C. 1531 et seq.). The requested permits would allow the applicants to conduct activities intended to promote recovery of species that are listed as endangered or threatened under the ESA.

Background

With some exceptions, the ESA prohibits activities that constitute take of listed species unless a Federal permit is issued that allows such activity. The ESA's definition of “take” includes such activities as pursuing, harassing, trapping, capturing, or collecting in addition to hunting, shooting, harming, wounding, or killing.

A recovery permit issued by us under section 10(a)(1)(A) of the ESA authorizes the permittee to conduct activities with endangered or threatened species for scientific purposes that promote recovery or for enhancement of propagation or survival of the species. These activities often include such prohibited actions as capture and collection. Our regulations implementing section 10(a)(1)(A) for these permits are found in the Code of Federal Regulations at 50 CFR 17.22 for endangered wildlife species, 50 CFR 17.32 for threatened wildlife species, 50 CFR 17.62 for endangered plant species, and 50 CFR 17.72 for threatened plant species.

Permit Applications Available for Review and Comment

Proposed activities in the following permit requests are for the recovery and enhancement of propagation or survival of the species in the wild. The ESA requires that we invite public comment before issuing these permits. Accordingly, we invite local, State, Tribal, and Federal agencies and the public to submit written data, views, or arguments with respect to these applications. The comments and recommendations that will be most useful and likely to influence agency decisions are those supported by quantitative information or studies.

Application No. | Applicant, city, state | Species | Location | Activity | Type of take | Permit action
TE-817400 | East Bay Regional Park District, Oakland, California | • Salt marsh harvest mouse (Reithrodontomys raviventris) | CA | Survey, mark, track, nest monitor, collect vouchers | Capture, handle, insert PIT tags, collect vouchers, monitor nests | Renew and Amend.
|  | • California least tern (Sternula antillarum browni (Sterna a. browni)),
|  | • California clapper rail ((Rallus longirostris obsoletus),
|  | • Conservancy fairy shrimp (Branchinecta conservatio),
|  | • Longhorn fairy shrimp (Branchinecta longiantenna),
|  | • San Diego fairy shrimp (Branchinecta sandiegonensis),
|  | • Riverside fairy shrimp (Streptocephalus woottoni), • Vernal pool tadpole shrimp (Lepidurus packardi)
TE-102310 | Mitchell Dallas, Morro Bay, California | • Conservancy fairy shrimp (Branchinecta conservatio), • Longhorn fairy shrimp (Branchinecta longiantenna), | CA | Survey, collect soil, identify branchiopod eggs | Capture, handle, release, collect vouchers, and collect soil | Renew.
|  | • San Diego fairy shrimp (Branchinecta sandiegonensis),
|  | • Riverside fairy shrimp (Streptocephalus woottoni),
|  | • Vernal pool tadpole shrimp (Lepidurus packardi).
TE-14749C | Lorena Bernal, San Diego, California | • Conservancy fairy shrimp (Branchinecta conservatio), • Longhorn fairy shrimp (Branchinecta longiantenna), | CA | Survey | Capture, handle, release, and collect vouchers | New.
|  | • San Diego fairy shrimp (Branchinecta sandiegonensis),
|  | • Riverside fairy shrimp (Streptocephalus woottoni),
|  | • Vernal pool tadpole shrimp (Lepidurus packardi).
TE-237061 | Daniel Chase, San Francisco, California | • Tidewater goby (Eucyclogobius newberryi) | CA | Survey and collect vouchers | Capture, handle, release, and collect vouchers | Renew.
TE-012973 | Ecorp Consulting, Rocklin, California | • San Bernardino Merriam's kangaroo rat (Dipodomys merriami parvus) | CA | Survey | Capture, handle, and release | Amend.
TE-08086D | Santa Clara Valley Water District, San Jose, California | • California clapper rail (Rallus longirostris obsoletus) | CA | Survey | Survey | New.
TE-41182B | Karen Pope, Arcata, California | • Sierra Nevada yellow-legged frog (Rana sierrae) | CA | Survey and research studies | Capture, handle, take skin swabs, insert PIT tags, collect vouchers, salvage, and test for disease | Renew and Amend.
TE-094893 | Santa Barbara Botanic Garden, Santa Barbara, California | • Hoffmann's rock-cress (Arabis hoffmannii) • Santa Rosa Island manzanita (Arctostaphylos confertiflora) | CA | Remove/reduce to possession from lands under Federal jurisdiction | Collect, bank seeds | Renew and Amend.
|  | • Marsh Sandwort (Arenaria paludicola)
|  | • Clara Hunt's milk-vetch (Astragalus claranus)
|  | • Ventura Marsh milk-vetch (Astragalus pycnostachyus var. lanosissimus)
|  | • Braunton's milk-vetch (Astragalus brauntonii)
|  | • Coastal dunes milk-vetch (Astragalus tener var. titi)
|  | • Nevin's barberry (Berberis nevinii)
|  | • Island Barberry (Berberis pinnata ssp. insularis)
|  | • Tiburon paintbrush (Castilleja affinis ssp. neglecta)
|  | • Soft-leaved paintbrush (Castilleja mollis)
|  | • California jewelflower (Caulanthus californicus)
|  | • Coyote ceanothus (Ceanothus ferrisiae)
|  | • Catalina Island mountain-mahogany (Cercocarpus traskiae)
|  | • Chorro Creek bog thistle (Cirsium fontinale var. obispoense)
|  | • La Graciosa thistle (Cirsium loncholepis)
|  | • Presidio clarkia (Clarkia franciscana)
|  | • Vine Hill clarkia (Clarkia imbricata)
|  | • Pismo clarkia (Clarkia speciosa ssp. immaculata)
|  | • Soft bird's-beak (Cordylanthus mollis ssp. mollis)
|  | • Salt marsh bird's-beak (Cordylanthus maritimus ssp. maritimus)
|  | • Gaviota Tarplant (Deinandra increscens ssp. villosa)
|  | • San Clemente Island larkspur (Delphinium variegatum ssp. kinkiense)
|  | • Vandenberg monkeyflower (Diplacus vandenbergensis)
|  | • Santa Clara Valley dudleya (Dudleya setchellii)
|  | • Santa Barbara Island liveforever (Dudleya traskiae)
|  | • Kern mallow (Eremalche kernensis)
|  | • Indian Knob mountainbalm (Eriodictyon altissimum)
|  | • Lompoc yerba santa (Eriodictyon capitatum)
|  | • Loch Lomond coyote thistle (Eryngium constancei)
|  | • San Diego button-celery (Eryngium aristulatum var. parishii)
|  | • Menzies' wallflower (Erysimum menziesii)
|  | • Island bedstraw (Galium buxifolium)
|  | • Monterey gilia (Gilia tenuiflora ssp. arenaria)
|  | • Hoffmann's slender-flowered gilia (Gilia tenuiflora ssp. hoffmannii)
|  | • Contra Costa goldfields (Lasthenia conjugens)
|  | • Burke's goldfields (Lasthenia burkei)
|  | • Beach layia (Layia carnosa)
|  | • San Joaquin wooly-threads (Monolopia (=Lembertia) congdonii)
|  | • Sebastopol meadowfoam (Limnanthes vinculans)
|  | • San Clemente Island woodland-star (Lithophragma maximum)
|  | • Nipomo Mesa lupine (Lupinus nipomensis)
|  | • San Clemente Island bush-mallow (Malacothamnus clementinus)
|  | • Santa Cruz Island bush-mallow (Malacothamnus fasciculatus var. nesioticus)
|  | • Island malacothrix (Malacothrix squalida)
|  | • Santa Cruz Island malacothrix (Malacothrix indecora)
|  | • Bakersfield cactus (Opuntia treleasei)
|  | • California Orcutt grass (Orcuttia californica)
|  | • Lyon's pentachaeta (Pentachaeta lyonii)
|  | • Island phacelia (Phacelia insularis ssp. insularis)
|  | • Yadon's piperia (Piperia yadonii)
|  | • Calistoga allocarya (Plagiobothrys strictus)
|  | • San Diego mesa-mint (Pogogyne abramsii)
|  | • Otay mesa-mint (Pogogyne nudiuscula)
|  | • Gambel's watercress (Rorippa gambellii)
|  | • Santa Cruz Island rockcress (Sibara filifolia)
|  | • Keck's Checker-mallow (Sidalcea keckii)
|  | • California seablite (Suaeda californica)
|  | • Santa Cruz Island fringepod (Thysanocarpus conchuliferus).
TE-797999 | Merkel & Associates, Inc., San Diego, California | • Conservancy fairy shrimp (Branchinecta conservatio), • Longhorn fairy shrimp (Branchinecta longiantenna), | CA | Survey | Survey, Capture, handle, release, and collect vouchers | Renew.
|  | • San Diego fairy shrimp (Branchinecta sandiegonensis),
|  | • Riverside fairy shrimp (Streptocephalus woottoni),
|  | • Vernal pool tadpole shrimp (Lepidurus packardi),
|  | • Southwestern willow flycatcher (Empidonax traillii extimus),
|  | • Quino checkerspot butterfly (Euphydryas editha quino)
|  | • Light-footed clapper rail (light-footed Ridgway's r.) (Rallus longirostris levipes) (R. obsoletus l.)
|  | • Unarmored threespine stickleback (Gasterosteus aculeatus williamsoni)
|  | • Tidewater goby (Eucyclogobius newberryi).
TE-11825D | Autumn Skimin, Georgetown, California | • Conservancy fairy shrimp (&), • Longhorn fairy shrimp (Branchinecta longiantenna), | CA | Survey | Capture, handle, release, and collect vouchers | New.
|  | • San Diego fairy shrimp (Branchinecta sandiegonensis),
|  | • Riverside fairy shrimp (Streptocephalus woottoni),
|  | • Vernal pool tadpole shrimp (Lepidurus packardi).
TE-11840D | Josh Weinik, Long Beach, California | • El Segundo blue butterfly (Euphilotes battoides allyni), • Palos Verdes blue butterfly (Glaucopsyche lygdamus palosverdesensis). | CA | Survey | Survey | New.
TE-821967 | Paul Galvin, Irvine, California | • Conservancy fairy shrimp (Branchinecta conservatio), • Longhorn fairy shrimp (Branchinecta longiantenna), | CA, NV | Survey and nest monitor | Survey, nest monitor, Capture, handle, release, and collect vouchers | Renew.
|  | • San Diego fairy shrimp (Branchinecta sandiegonensis),
|  | • Riverside fairy shrimp (Streptocephalus woottoni),
|  | • Vernal pool tadpole shrimp (Lepidurus packardi),
|  | • Southwestern willow flycatcher (Empidonax traillii extimus),
|  | • Least Bell's vireo (Vireo belli pusillus).
TE-05665B | Lisa Achter, Grass Valley, California | • California tiger salamander (Sonoma County Distinct Population Segment (DPS)) (Ambystoma californiense) | CA | Survey | Capture, handle, and release | Amend.
TE-12771D | Lynn Sweet | • Triple-ribbed milk-vetch (Astragalus tricarinatus) | CA | Remove/reduce to possession from lands under Federal jurisdiction | Collect tissue and whole plants | New.

Public Availability of Comments

Written comments we receive become part of the administrative record associated with this action. Before including your address, phone number, email address, or other personal identifying information in your comment, you should be aware that your entire comment—including your personal identifying information—may be made publicly available at any time. While you can request in your comment that we withhold your personal identifying information from public review, we cannot guarantee that we will be able to do so. All submissions from organizations or businesses, and from individuals identifying themselves as representatives or officials of organizations or businesses, will be made available for public disclosure in their entirety.

Next Steps

If we decide to issue permits to any of the applicants listed in this notice, we will publish a notice in the Federal Register.

Authority

We publish this notice under section 10(c) of the Endangered Species Act of 1973, as amended (16 U.S.C. 1531 et seq.).

Angela Picco,
Acting Chief of Ecological Services, Pacific Southwest Region, Sacramento, California.

[FR Doc. 2019-02103 Filed 2-12-19; 8:45 am]

BILLING CODE 4333-15-P